NATIONAL SCIENCE FOUNDATION

Advisory Committee for Biological Sciences; Notice of Meeting

In accordance with the Federal Advisory Committee Act (Pub. L. 92-463, as amended), the National Science Foundation (NSF) announces the following meeting:

Name and Committee Code: Advisory Committee for Biological Sciences (#1110).

Date and Time: December 19, 2017; 1:00 p.m.-3:00 p.m.

Place: National Science Foundation, 2415 Eisenhower Avenue, Room E 3410, Alexandria, VA 22314.

Please contact Rachel Evans at rlevans@nsf.gov to obtain a visitor badge. All visitors to the NSF will be required to show photo ID to obtain a badge.

Type of Meeting: Open.

Contact Person: Brent Miller, National Science Foundation, 2415 Eisenhower Avenue, Room C 12016, Alexandria, VA 22314; Tel No.: (703) 292-8400.

Purpose of Meeting: The Advisory Committee for the Directorate for Biological Sciences (BIO) provides advice, recommendations, and oversight concerning major program emphases, directions, and goals for the research-related activities of the divisions that make up BIO.

Agenda: This meeting will be held telephonically among the Advisory Committee members; public visitors will be able to attend the meeting in person at NSF headquarters. Agenda items will include welcoming new Advisory Committee (AC) members, review of the AC's function, discussion of potential future AC activities, and other matters relevant to the Directorate for Biological Sciences.

Dated: November 6, 2017.
Crystal Robinson,
Committee Management Officer.

[FR Doc. 2017-24543 Filed 11-9-17; 8:45 am]

BILLING CODE 7555-01-P